NATIONAL AERONAUTICS AND SPACE ADMINISTRATION

[Notice (03-128)]

NASA Advisory Council, Biological and Physical Research Advisory Committee Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee.

DATES: Thursday, October 23, 2003, from 10 a.m. until 6 p.m. and Friday, October 24, 2003 from 8 a.m. until 12 Noon.

ADDRESSES: NASA Headquarters, 300 E Street SW., Room 6H46, Washington, DC 20546.

FOR FURTHER INFORMATION CONTACT: Dr. Bradley Carpenter, Code UG, National Aeronautics and Space Administration, Washington, DC 20546, 202/358-0826.

SUPPLEMENTARY INFORMATION: The meeting will be open to the public up to the seating capability of the meeting room. Attendees will be requested to sign a register and to comply with NASA security requirements, including the presentation of a valid picture ID, before receiving an access badge. Foreign nationals attending this meeting will be required to provide the following information: Full name; gender; date/place of birth; citizenship; visa/greencard information (number, type, expiration date); employer/affiliation information (name of institution, address, country, phone); title/position of attendee. Foreign nationals will be escorted at all times. To expedite admittance, attendees can provide identifying information in advance by contacting Dr. Bradley Carpenter at 202/358-0826 or via e-mail at bcarpent@hq.nasa.gov.

The agenda for the meeting is as follows:

—Review Recommendations

—Program Overview

—Division Reports

—International Space Station Research Status

—Strategic Plan

It is imperative that the meeting be held on this date to accommodate the scheduling priorities of the key participants. Visitors will be requested to sign a visitor's register.

June W. Edwards,
Advisory Committee Management Officer, National Aeronautics and Space Administration.

[FR Doc. 03-25828 Filed 10-9-03; 8:45 am]

BILLING CODE 7510-01-P